DEPARTMENT OF DEFENSE

GENERAL SERVICES ADMINISTRATION

NATIONAL AERONAUTICS AND SPACE ADMINISTRATION

[MV-2023-02; Docket No. 2023-0053; Sequence No. 12]

Improvements to the Federal Acquisition Regulation Standard Forms in the GSA Forms Library

AGENCY: Department of Defense (DOD), General Services Administration (GSA), and National Aeronautics and Space Administration (NASA).

ACTION: Notice.

SUMMARY: DoD, GSA, and NASA announce improvements to the Federal Acquisition Regulation (FAR) standard forms found in the GSA Forms Library.

DATES: The updated forms will begin to be available on the GSA's Forms Library at https://www.gsa.gov/forms following the publication of this notice, October 18, 2023.

FOR FURTHER INFORMATION CONTACT: Zenaida Delgado, zenaida.delgado@gsa.gov or call 202-969-4075. Please cite “FAR standard forms” in the subject line.

SUPPLEMENTARY INFORMATION: In support of Executive Order 13985 of January 20, 2021, Advancing Racial Equity and Support for Underserved Communities Through the Federal Government, a review of the standard forms covered by the FAR was conducted. The review focused on equity issues to remove barriers to access for underserved communities by identifying ways to improve the usability of the FAR standard forms. An organizational psychologist with over 20 years of consulting experience supporting commercial and federal organizations was part of the review team.

The review resulted in the identification of potential changes to improve the accessibility of the FAR forms. The changes are considered best practices to support readability for a variety of individuals (visual disabilities and/or learning difficulties). Adopting these changes has the advantage of making the forms easier to read for everyone.

DoD, GSA, and NASA agreed to apply a set of uniform visual improvements to the FAR standard forms. The six improvements are as follows:

1. Replace text in all CAPS with standard title form text (i.e., for each word capitalize the first letter). Use bold text to identify titles.

2. Use consistent font size; adjust form to 12-point text.

3. Replace centered text with left justified.

4. Replace italicized text with standard text.

5. Increase the space between lines of text throughout the form.

6. Move the Paperwork Reduction Act (PRA) statement to the end of the form for forms subject to the PRA.

Other changes made to the FAR standard forms include updated citations, and editorial corrections.

DoD, GSA, and NASA expect these changes, all of which comport with section 508 of the Rehabilitation Act, will improve the forms usability and will be received well by members of the public and Government alike.

William F. Clark,
Director, Office of Governmentwide Acquisition Policy, Office of Acquisition Policy, Office of Governmentwide Policy.

[FR Doc. 2023-22920 Filed 10-17-23; 8:45 am]

BILLING CODE 6820-EP-P